DEPARTMENT OF LABOR

Employment and Training Administration

[TA-W-55,125]

Volt Temporary Services, Leased Workers Onsite at SR Telecom Inc., Redmond, WA; Notice of Affirmative Determination Regarding Application for Reconsideration

By letter of July 28, 2004, a petitioner requested administrative reconsideration of the Department's Notice of Negative Determination Regarding Eligibility to Apply for Worker Adjustment Assistance, applicable to workers of the subject firm. The Notice was signed on July 7, 2004 and published in the Federal Register on August 3, 2004 (69 FR 46574).

The Department reviewed the request for reconsideration and has determined that the petitioner has provided additional information. Therefore, the Department will conduct further investigation to determine if the workers meet the eligibility requirements of the Trade Act of 1974.

Conclusion

After careful review of the application, I conclude that the claim is of sufficient weight to justify reconsideration of the Department of Labor's prior decision. The application is, therefore, granted.

Signed at Washington, DC, this 10th day of August, 2004.
Linda G. Poole,
Certifying Officer, Division of Trade Adjustment Assistance.

[FR Doc. 04-19094 Filed 8-19-04; 8:45 am]

BILLING CODE 4510-30-P